DEPARTMENT OF HOMELAND SECURITY

U.S. Citizenship and Immigration Services

[CIS No. 2784-24; DHS Docket No. USCIS-2024-0009]

Notice of Approval of New Credentialing Organization for Healthcare Workers for Certain Immigration Purposes

AGENCY: Department of Homeland Security, U.S. Citizenship and Immigration Services.

ACTION: Notice.

SUMMARY: The Department of Homeland Security (DHS or the Department), U.S. Citizenship and Immigration Services (USCIS) is issuing this document to inform the public of the approval of a new credentialing organization for certain health care workers for certain immigration purposes.

DATES: USCIS approved the application from International Education Evaluations, LLC on October 25, 2024.

FOR FURTHER INFORMATION CONTACT: Charles L. Nimick, Chief, Business and Foreign Workers Division, Office of Policy and Strategy, U.S. Citizenship and Immigration Services, Department of Homeland Security, 5900 Capital Gateway Drive, Camp Springs, MD 20746; or by phone at 240-721-3000 (this is not a toll-free number).

SUPPLEMENTARY INFORMATION: Sections 212(a)(5)(C) and 212(r) of the Immigration and Nationality Act (the Act), 8 U.S.C. 1182(a)(5)(C) and (r), as well as the DHS regulations at 8 CFR 214.1(i) and (j) and 212.15(a) and (n)(3), require that an individual who seeks admission to the United States as a nonimmigrant or immigrant, or who is the beneficiary of a change of status request, or who is applying for adjustment of status, in the United States for the purpose of performing labor in certain health care occupations is inadmissible unless he or she presents a certificate from an authorized credentialing organization. DHS regulations at 8 CFR 212.15(e)(1) through (3) expressly authorize the Commission on Graduates of Foreign Nursing Schools (CGFNS), the National Board for Certification in Occupational Therapy (NBCOT), and the Foreign Credentialing Commission on Physical Therapy (FCCPT) to issue such certificates. In addition, DHS regulations list CGFNS as authorized to issue alternative certified statements under INA section 212(r), 8 U.S.C. 1182(r). See 8 CFR 212.15(h).¹ DHS regulations also establish detailed standards for the approval of additional credentialing organizations after consultation with the Secretary of Health and Human Services, and USCIS has created an adjudicatory framework for the filing and adjudication of those applications using Form I-905, Application for Authorization to Issue Certification for Health Care Workers. 8 CFR 212.15(j) and (k). The regulations also provide for periodic review and, if necessary, termination of credentialing organizations. 8 CFR 212.15(l) and (m). Finally, the regulations direct DHS to notify the public of the approval of additional credentialing organizations by publishing notices in the Federal Register. 8 CFR 212.15(e) and (h). Further guidance on certificates for health care workers is available at https://www.uscis.gov/working-in-the-united-states/temporary-workers/health-care-worker-certification.

¹ On July 22, 2021, USCIS approved an additional credentialing organization, Josef Silny & Associates, Inc. as authorized to issue healthcare certificates and certified statements. See 86 FR 40867 (Jul. 29, 2021). USCIS maintains the full list of approved credentialing organizations on its website— https://www.uscis.gov/working-in-the-united-states/temporary-workers/health-care-worker-certification.

In accordance with 8 CFR 212.15(e) and (h), USCIS is providing notice that, following consultation with the Secretary of Health and Human Services, it has approved the application from International Education Evaluations, LLC, as an organization authorized to issue certificates and certified statements under sections 212(a)(5)(C) and 212(r) of the Act, 8 U.S.C. 1182(a)(5)(C) and (r), for individuals seeking to enter the United States for the primary purpose of working as registered nurses, licensed practical nurses, and licensed vocational nurses.

Ur Jaddou,
Director, U.S. Citizenship and Immigration Services, U.S. Department of Homeland Security.

[FR Doc. 2024-24213 Filed 10-24-24; 8:45 am]

BILLING CODE 9111-97-P